COMMITTEE FOR PURCHASE FROM PEOPLE WHO ARE BLIND OR SEVERELY DISABLED

Procurement List; Additions and Deletions

AGENCY: Committee for Purchase From People Who Are Blind or Severely Disabled.

ACTION: Additions to the Procurement List.

SUMMARY: This action adds product(s) and service(s)to the Procurement List that will be furnished by nonprofit agencies employing persons who are blind or have other severe disabilities.

DATES: Date added to and deleted from the Procurement List: May 29, 2022 and June 12, 2022.

ADDRESSES: Committee for Purchase From People Who Are Blind or Severely Disabled, 1401 S Clark Street, Suite 715, Arlington, Virginia 22202-4149.

FOR FURTHER INFORMATION CONTACT: Michael R. Jurkowski, Telephone: (703) 785-6404, or email CMTEFedReg@AbilityOne.gov.

SUPPLEMENTARY INFORMATION:

Additions

On 51/7/2022; 2/4/2022; and 2/25/2022, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s): 7520-00-NIB-2491—Pen, All-Weather, Cord Loop, Black Ink, 1mm point

Designated Source of Supply: Alphapointe, Kansas City, MO

Mandatory For: Total Government Requirement

Contracting Activity: FEDERAL ACQUISITION SERVICE, GSA/FAS ADMIN SVCS ACQUISITION BR(2

Distribution: A-List

NSN(s)—Product Name(s):

MR 10831—Container, Carrot and Dip To Go, Includes Shipper 20831

MR 10816—Marvel Toys, Includes Shipper 20816

MR 10819—Celery & Dip to Go, Includes Shipper 20819

MR 10795—Party Popper Cake Topper, Includes Shipper 20795

MR 13501—Wing Corkscrew

MR 13502—Double Waiters Corkscrew

Designated Source of Supply: Winston-Salem Industries for the Blind, Inc, Winston-Salem, NC

Mandatory For: The requirements of military commissaries and exchanges in accordance with the 41 CFR 51-6.4

Contracting Activity: Military Resale-Defense Commissary Agency

Distribution: C-List

Service(s)

Service Type: Acquisition Support Services

Mandatory for: U.S. Coast Guard, Surface Forces Logistics Center, Baltimore, MD, Norfolk, VA and Oakland, CA

Mandatory Source of Supply: Skookum Educational Programs, Bremerton, WA

Contracting Activity: U.S. COAST GUARD, SFLC PROCUREMENT BRANCH 3(00040)

The Committee finds good cause to dispense with the 30-day delay in the effective date normally required by the Administrative Procedure Act. See 5 U.S.C. 553(d). This addition to the Committee's Procurement List is effectuated because of the expiration of the U.S. Coast Guard, Acquisition Support Services, Baltimore, MD, Norfolk, VA & Oakland, CA contract. The Federal customer contacted and has worked diligently with the AbilityOne Program to fulfill this service need under the AbilityOne Program. To avoid performance disruption, and the possibility that the U.S. Coast Guard will refer its business elsewhere, this addition must be effective on May 29, 2022, ensuring timely execution for a June 1, 2022, start date while still allowing 16 days for comment. Pursuant to its own regulation 41 CFR 51-2.4, the Committee has been in contact with one of the affected parties, the incumbent of the expiring contract, since June 2021 and determined that no severe adverse impact exists. The Committee also published a notice of proposed Procurement List addition in the Federal Register on January 7, 2022 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Michael R. Jurkowski,
Acting Director, Business Operations.

[FR Doc. 2022-10313 Filed 5-12-22; 8:45 am]

BILLING CODE 6353-01-P